NUCLEAR REGULATORY COMMISSION

[NRC-2019-0178]

Use of Listserv for Fuel Cycle Facilities Correspondence

AGENCY: Nuclear Regulatory Commission.

ACTION: Implementation of electronic distribution of fuel cycle facilities correspondence.

SUMMARY: The U.S. Nuclear Regulatory Commission (NRC) is issuing this document to inform the public that, as of September 30, 2019, publicly-available fuel cycle facilities correspondence originating from the Office of Nuclear Material Safety and Safeguards (NMSS) and Region II will be transmitted by a computer-based email distribution system, Listserv, to addressees and subscribers. This change does not affect the availability of official agency records in the NRC's Agencywide Documents Access and Management System (ADAMS).

DATES: This initiative will be implemented on October 3, 2019.

ADDRESSES: Please refer to Docket ID NRC-2019-0178 when contacting the NRC about the availability of information regarding this document. You may obtain publicly-available information related to this document using any of the following methods:

• Federal Rulemaking website: Go to https://www.regulations.gov and search for Docket ID NRC-2019-0178. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

FOR FURTHER INFORMATION CONTACT: Tilda Liu, telephone: 404-997-4730; email: Tilda.Liu@nrc.gov and Matthew Bartlett, telephone: 301-415-7119; email: Matthew.Bartlett@nrc.gov. Both are staff of the Office of Nuclear Material Safety and Safeguards, U.S. Nuclear Regulatory Commission, Washington, DC 20555-0001.

SUPPLEMENTARY INFORMATION: The electronic distribution process for NRC public documents was first utilized by the Office of Nuclear Reactor Regulation in 2008 (ADAMS Accession No. ML082750550) for operating reactor correspondence. The Division of Decommissioning, Uranium Recovery, and Waste Programs in NMSS already uses Listserv to distribute correspondence for Waste Incidental to Reprocessing (82 FR 33160; July 19, 2017), reactors in decommissioning (83 FR 49434; October 1, 2018), and low-level waste (84 FR 40440; August 14, 2019) program documents. Public feedback regarding this process has been positive. This process distributes public documents generated by the NRC staff to individuals who are registered for the Listserv. The Listserv does not provide notice of documents generated by external parties, or NRC documents that contain proprietary, security-related, safeguards, or other information that is withheld from public disclosure.

This Listserv will be implemented on September 30, 2019. Individuals may subscribe to receive licensing and inspection correspondences for fuel cycle facilities through the following steps: (1) Go to the NRC's public website and (2) select “Public Meetings & Involvement,” (3) select “Subscribe to Email Updates,” (4) select “Fuel Cycle Facilities Correspondence,” (5) enter the email address through which you want to receive notices from the NRC Listserv, (6) check the box(es) to select the facility or facilities of interest, and (7) click on “Subscribe.”

Once subscribed, you will receive an email confirmation from the NRC with instructions for managing your NRC Listserv subscription, including how to change your email address and how to unsubscribe. You are responsible for ensuring that the NRC Listserv has your current email address.

Dated at Rockville, Maryland, this 27th day of September, 2019.
For the Nuclear Regulatory Commission.
Cinthya I. Roman-Cuevas,
Acting Director, Division of Fuel Cycle Safety, Safeguards, and Environmental Review, Office of Nuclear Material Safety and Safeguards.

[FR Doc. 2019-21512 Filed 10-2-19; 8:45 am]

BILLING CODE 7590-01-P